DEPARTMENT OF THE INTERIOR

Geological Survey

Announcement of USGS National Geospatial Program (NGP) 3D Elevation Program (3DEP) FY15 Public Meetings in Preparation for the Upcoming Release of the USGS Broad Agency Announcement for 3D Elevation

ACTION: Notice of Meeting(s).

SUMMARY: The 3D Elevation Program (3DEP) initiative is being developed to respond to needs for high-quality topographic data and for a wide range of other three-dimensional representations of the Nation's natural and constructed features. The primary goal of 3DEP is to systematically collect enhanced elevation data in the form of high-quality light detection and ranging (lidar) data over the conterminous United States, Hawaii, and the U.S. territories, as well as interferometric synthetic aperture radar (ifsar) data over Alaska. The 3DEP initiative is based on the results of the National Enhanced Elevation Assessment (NEEA), which indicated an optimal benefit to cost ratio for Quality Level 2 (QL2) data collected over 8-years to complete national coverage. The implementation model for 3DEP is based on multi-agency partnership funding for acquisition, with the USGS acting in a lead program management role to facilitate planning and acquisition for the broader community, through the use of government contracts and partnership agreements. The annual Broad Agency Announcement (BAA) is a competitive solicitation issued to facilitate the collection of lidar and derived elevation data for the 3D Elevation Program (3DEP). Federal agencies, state and local governments, tribes, academic institutions and the private sector are eligible to submit proposals. The 3DEP public meetings will introduce this opportunity to the broadest stakeholder community possible and provide a forum for interested parties to discuss elevation data collection needs of mutual interest that could be addressed by a coordinated investment.

Advanced Registration is required for meeting attendance. National Webinars will be recorded and made available for viewing.

DATES: USGS Broad Agency Announcement (BAA) for 3D Elevation Program (3DEP) FY15 National Webinars—Notice of Proposed Public Acquisition Opportunity: April 24th 12:00-1:00 ET, April 29th 2:00-3:00 ET. Virtual meeting information posted on https://www.geoplatform.gov/elevation/3DEP.

3DEP Public Workshops in support of upcoming BAA: To be held throughout the US between May 4th and June 26th. Locations, Dates, Times and Registration Information posted on: https://www.geoplatform.gov/elevation/3DEP. Registration available beginning May 1st.

USGS Broad Agency Announcement for 3D Elevation Program FY15 National Webinars—Instructions for proposal submissions: July 23rd 12:00-1:00 ET, July 28th 2:00-3:00 ET. Virtual meeting information posted on https://www.geoplatform.gov/elevation/3DEP.

FOR FURTHER INFORMATION CONTACT: 3D Elevation Program, gs_baa@usgs.gov.

SUPPLEMENTARY INFORMATION: The BAA is issued under the provisions of FAR Part 35. Proposals selected for eventual award are considered to be the result of full and open competition and in full compliance with the provision of Public Law 98-369, “The Competition in Contracting Act of 1984” and subsequent amendments. For additional information on the 3DEP program http://nationalmap.gov/3DEP/index.html.

Dated: April 10, 2014.
Julia Fields,
Deputy Director, National Geospatial Program.

[FR Doc. 2015-08668 Filed 4-14-15; 8:45 am]

BILLING CODE P